DEPARTMENT OF TRANSPORTATION

Department of Transportation Advisory Committee on Human Trafficking; Notice of Public Meeting

AGENCY: Office of the Secretary of Transportation, Department of Transportation.

ACTION: Notice of public meeting.

SUMMARY: This notice announces a meeting of the Department of Transportation Advisory Committee on Human Trafficking.

DATES: The meeting will be held on June 17, 2019, from 2:00 p.m. to 5:00 p.m. EDT.

ADDRESSES: The meeting will be held via teleconference. Any person requesting accessibility accommodations should contact the Official listed in the next section.

FOR FURTHER INFORMATION CONTACT: Nicole L. Bambas, Senior Advisor, Office of International Transportation and Trade, U.S. Department of Transportation, at trafficking@dot.gov or (202) 366-5058. Also visit the ACHT internet website at https://www.transportation.gov/stophumantrafficking/acht.

SUPPLEMENTARY INFORMATION:

I. Background

The Advisory Committee on Human Trafficking (ACHT) was created in accordance with Section 5 of the Combating Human Trafficking in Commercial Vehicles Act (Pub. L. 115-99) to make recommendations to the Secretary of Transportation on actions the Department can take to help combat human trafficking, and to develop recommended best practices for States and State and local transportation stakeholders in combatting human trafficking.

II. Agenda

At the June 17, 2019, meeting, the agenda will cover the following topics:

• Welcome

• Review of the ACHT Process

• Overview of the ACHT Final Report

• Public Comment

• Motion to Approve Final ACHT Report

• Closing

A final agenda will be posted on the ACHT internet website at https://www.transportation.gov/stophumantrafficking/acht at least one week in advance of the meeting.

III. Public Participation

The meeting will be open to the public. Members of the public who wish to participate in the teleconference are asked to register via email by submitting their name and affiliation to trafficking@dot.gov by June 3, 2019. The US Department of Transportation is committed to providing equal access to this meeting for all participants. If you need alternative formats or services because of a disability, please contact Nicole Bambas at 202-366-5058 or via email at (trafficking@dot.gov) with your request by close of business on June 3, 2019.

There will be 30 minutes allotted for oral comments from members of the public joining the meeting. To accommodate as many speakers as possible, the time for each commenter may be limited. Individuals wishing to reserve speaking time during the meeting must submit a request at the time of registration, as well as the name, address, and organizational affiliation of the proposed speaker. If the number of registrants requesting to make statements is greater than can be reasonably accommodated during the meeting, the Office of the Secretary may conduct a lottery to determine the speakers. Speakers are requested to submit a written copy of their prepared remarks by 5:00 p.m. EDT on June 3, 2019, for inclusion in the meeting records and for circulation to ACHT members. All prepared remarks submitted on time will be accepted and considered as part of the record.

Persons who wish to submit written comments for consideration by ACHT during the meeting must submit them no later than 5:00 p.m. EDT on June 3, 2019, to ensure transmission to ACHT members prior to the meeting. Comments received after that date and time will be distributed to the members but may not be reviewed prior to the meeting.

Copies of the meeting minutes will be available on the ACHT internet website at https://www.transportation.gov/stophumantrafficking/acht.

Dated: May 20, 2019.
Joel Szabat,
Assistant Secretary, Aviation and International Affairs.

[FR Doc. 2019-11277 Filed 5-29-19; 8:45 am]

BILLING CODE 4910-9X-P